DEPARTMENT OF HEALTH AND HUMAN SERVICES

National Institutes of Health

National Institute of Biomedical Imaging and Bioengineering; Notice of Meetings

Pursuant to section 10(d) of the Federal Advisory Committee Act, as amended (5 U.S.C. Appendix 2), notice is hereby given of meetings of the National Advisory Council for Biomedical Imaging and Bioengineering.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Council for Biomedical Imaging and Bioengineering.

Date: May 26-27, 2004.

Open: May 27, 2004, 8 a.m. to 12:20 p.m.

Agenda: Report from the NIBIB Director and the Council's two subcommittees, and program presentations.

Place: National Institutes of Health, Natcher Building, 45 Center Drive, Bethesda, MD 20892.

Closed: May 27, 2004, 1:20 p.m. to 4:30 p.m.

Agenda: To review and evaluate grant applications.

Place: National Institutes of Health, Natcher Building, 45 Center Drive, Bethesda, MD 20892.

Contact Person: Joan T. Harmon, Director, Office of Extramural Policies, National Institute of Biomedical Imaging and Bioengineering, NIH, 6707 Democracy Blvd Suite 200, Bethesda, MD 20892; 301 451-4776, harmonj@nibib.nih.gov.

Name of Committee: National Advisory Council for Biomedical Imaging and Bioengineering, Training and Career Development Subcommittee.

Date: May 26, 2004.

Open: 1 p.m. to 3:30 p.m.

Agenda: Discussion of subcommittee business and a presentation at 3 p.m. by Dr. Elias A. Zerhouni, Director of the NIH.

Place: National Institutes of Health, Natcher Building, 45 Center Drive, Bethesda, MD 20892.

Contact Person: Joan T. Harmon, Director, Office of Extramural Policies, National Institute of Biomedical Imaging and Bioengineering, NIH, 6707 Democracy Blvd Suite 200, Bethesda, MD 20892; 301 451-4776, harmonj@nibib.nih.gov.

Name of Committee: National Advisory Council for Biomedical Imaging and Bioengineering, Strategic Plan Development Subcommittee.

Date: May 26, 2004.

Open: 3:45 p.m. to 5:15 p.m.

Agenda: Discussion of subcommittee business.

Place: National Institutes of Health, Natcher Building, 45 Center Drive, Bethesda, MD 20892.

Contact Person: Joan T. Harmon, Director, Office of Extramural Policies, National Institute of Biomedical Imaging and Bioengineering, NIH, 6707 Democracy Blvd Suite 200, Bethesda, MD 20892; 301 451-4776, harmonj@nibib.nih.gov.

Any interested person may file written comments with the committee by forwarding the statement to the Contact Person listed on this notice. The statement should include the name, address, telephone number and when applicable, the business or professional affiliation of the interested person.

In the interest of security, NIH has instituted stringent procedures for entrance into the building by nongovernment employees. Persons without a government I.D. will need to show a photo I.D. and sign-in at the security desk upon entering the building.

Dated: April 20, 2004.
LaVerne Y. Stringfield,
Director, Office of Federal Advisory Committee Policy.

[FR Doc. 04-9459 Filed 4-23-04; 8:45 am]

BILLING CODE 4140-01-M